DEPARTMENT OF COMMERCE

National Oceanic and Atmospheric Administration

[RTID 0648-XE118]

Mid-Atlantic Fishery Management Council (MAFMC); Public Meeting

AGENCY: National Marine Fisheries Service (NMFS), National Oceanic and Atmospheric Administration (NOAA), Commerce.

ACTION: Notice; public meeting.

SUMMARY: The Ecosystem and Ocean Planning (EOP) Committee and Advisory Panel (AP) of the Mid-Atlantic Fishery Management Council (Council) will hold a joint meeting. See SUPPLEMENTARY INFORMATION for agenda details.

DATES: The meeting will be held on Wednesday, July 31, 2024, from 1 p.m. through 4 p.m.

ADDRESSES: The meeting will take place over webinar with a telephone-only connection option. Details on how to connect to the meeting will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the EOP Committee and AP will review the draft components of the Council's Ecosystem Approach to the Fisheries Management (EAFM) risk assessment report. In 2023, the Council completed a comprehensive review of the risk assessment and recommended a number of changes and updates to be included in a revised EAFM risk assessment. A draft report has been updated to reflect the approved changes to the risk assessment and incorporates the latest data and scientific information, indicators from the 2024 Mid-Atlantic State of the Ecosystem report, and new analyses developed by Council and the Northeast Fisheries Science Center (NEFSC staff. There are some risk element components that require additional feedback and direction from the EOP Committee and AP in order to be finalized. A completed 2024 EAFM risk assessment report will be presented to the Council later in the year.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: July 12, 2024.
Kelly Denit,
Director, Office of Sustainable Fisheries, National Marine Fisheries Service.

[FR Doc. 2024-15703 Filed 7-16-24; 8:45 am]

BILLING CODE 3510-22-P